NATIONAL SCIENCE FOUNDATION

National Science Board; Sunshine Act Meetings; Notice

The National Science Board's Subcommittee on Facilities of the Committee on Strategy and Budget, pursuant to NSF regulations (45 CFR part 614), the National Science Foundation Act, as amended (42 U.S.C. 1862n-5), and the Government in the Sunshine Act (5 U.S.C. 552b), hereby gives notice in regard to the scheduling of meetings for the transaction of National Science Board business and other matters specified, as follows:

DATE AND TIME: Thursday, November 19, 2009 from 3 p.m. to 4 p.m.

SUBJECT MATTER: Chairman's Remarks, Discussion of NSF Portfolio Review Materials, December NSB Meeting, and Next Steps.

STATUS: Open.

PLACE: This meeting will be held by teleconference originating at the National Science Board Office, National Science Foundation, 4201Wilson Blvd., Arlington, VA 22230. Room 130 will be held available to the public to listen to this teleconference meeting.

Please refer to the National Science Board Web site (http://www.nsf.gov/nsb) for information or schedule updates, or contact: Elizabeth Strickland, National Science Foundation, 4201 Wilson Blvd., Arlington, VA 22230. Telephone: (703) 292-7000.

Ann Ferrante,
Technical Writer/Editor.

[FR Doc. E9-27580 Filed 11-12-09; 4:15 pm]

BILLING CODE 7555-01-P